DEPARTMENT OF ENERGY

Federal Energy Regulatory Commission

Combined Notice of Filings #1

Take notice that the Commission received the following electric rate filings:

Docket Numbers: ER13-2232-000

Applicants: Mustang Hills, LLC

Description: Category Seller Revision to be effective 8/24/2013.

Filed Date: 8/23/13

Accession Number: 20130823-5119

Comments Due: 5 p.m. ET 9/13/13

Docket Numbers: ER13-2233-000

Applicants: Midcontinent Independent System Operator, Inc.

Description: 08-23-2013 Order 764 Compliance Filing to be effective 5/6/2013.

Filed Date: 8/23/13

Accession Number: 20130823-5149

Comments Due: 5 p.m. ET 9/13/13

Docket Numbers: ER13-2234-000

Applicants: Interstate Power and Light Company

Description: Amended Exhibits and Attachments to O&T to be effective 10/22/2013.

Filed Date: 8/23/13

Accession Number: 20130823-5161

Comments Due: 5 p.m. ET 9/13/13

Docket Numbers: ER13-2235-000

Applicants: Southern California Edison Company

Description: True-Up SGIA & Distrib Serv Agmt with SCE's Power Production Dept to be effective 10/26/2013.

Filed Date: 8/23/13

Accession Number: 20130826-5000

Comments Due: 5 p.m. ET 9/13/13

Docket Numbers: ER13-2236-000

Applicants: Midcontinent Independent System Operator, Inc.

Description: Request for Waiver of Midcontinent Independent System Operator, Inc.

Filed Date: 8/23/13

Accession Number: 20130823-5170

Comments Due: 5 p.m. ET 9/13/13

Docket Numbers: ER13-2237-000

Applicants: Southern California Edison Company

Description: Southern California Edison Company submits Relay Upgrade Agreement at Palo Verde Switchyard with SRP to be effective 8/27/2013.

Filed Date: 8/26/13

Accession Number: 20130826-5161

Comments Due: 5 p.m. ET 9/16/13

Take notice that the Commission received the following public utility holding company filings:

Docket Numbers: PH13-23-000

Applicants: ArcLight Capital Holdings, LLC

Description: FERC-65A Exemption Request of ArcLight Capital Holdings, LLC.

Filed Date: 8/23/13

Accession Number: 20130823-5168

Comments Due: 5 p.m. ET 9/13/13

Docket Numbers: PH13-24-000

Applicants: JP Energy GP LLC and CB Capital Holdings

Description: FERC-65A Exemption Request of JPE Companies.

Filed Date: 08/26/2013

Accession Number: 20130826-5046

Comment Date: 5 p.m. ET 9/16/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 26, 2013.
Nathaniel J. Davis, Sr.,
Deputy Secretary.

[FR Doc. 2013-21331 Filed 8-30-13; 8:45 am]

BILLING CODE 6717-01-P